DEPARTMENT OF HEALTH AND HUMAN SERVICES

Administration for Community Living

Intent To Award 54 Single-Source Supplements for Current Senior Medicare Patrol (SMP) State Grantees

ACTION: Announcing the intent to award 54 single-source supplements for current Senior Medicare Patrol (SMP) state grantees.

SUMMARY: The Administration for Community Living (ACL) announces the intent to award 54 administrative supplements in the form of cooperative agreements to existing SMP project grantees to support the expansion and enhancement of virtual capacity of the program. This effort will benefit the SMP programs in each state, the District of Columbia, Guam, Puerto Rico, and the U.S. Virgin Islands. The purpose of existing grantees' work is to empower and assist Medicare beneficiaries, their families, and caregivers to prevent, detect, and report health care fraud, errors, and abuse through outreach, counseling, and education with an emphasis on reaching Medicare beneficiaries with limited income and those residing in rural areas. As a result of the COVID-19 pandemic and related travel and congregation limitations and public health concerns, it has been identified that focus on expansion of virtual capacity is crucial at this time. The administrative supplements for FY 2021 will be distributed at a flat rate of $18,000 to each of the existing 54 state grantees, bringing the total for the supplement awards to $972,000.

FOR FURTHER INFORMATION CONTACT: For further information or comments regarding this program supplement, contact Marissa Whitehouse, U.S. Department of Health and Human Services, Administration for Community Living, Center for Integrated Programs, Office of Healthcare Information and Counseling; telephone (202) 795-7425; email Marissa.Whitehouse@acl.hhs.gov.

SUPPLEMENTARY INFORMATION: Program Name: Senior Medicare Patrol (SMP).

Recipient: 54 current SMP grantees.

Current grantee | State | FY21 ACL recommended supplement amount
Alabama Dept of Senior Services | Alabama | $18,000
Alaska Department of Health and Social Services | Alaska | 18,000
Arizona Department of Economic Security | Arizona | 18,000
Arkansas Department of Human Services | Arkansas | 18,000
California Health Advocates | California | 18,000
Colorado Division of Insurance | Colorado | 18,000
The Department of Rehabilitation Services | Connecticut | 18,000
Delaware Division of Social Services | Delaware | 18,000
Legal Counsel For The Elderly | District of Columbia | 18,000
Florida Department of Elder Affairs | Florida | 18,000
Eqhealth Solutions, Inc | Georgia | 18,000
Guam Department of Public Health & Social Services | Guam | 18,000
Hawaii Department of Health | Hawaii | 18,000
Idaho Commission on Aging | Idaho | 18,000
AgeOptions, Inc | Illinois | 18,000
IAAAA Education Institute, Inc | Indiana | 18,000
Iowa Department of Commerce | Iowa | 18,000
Kansas Department for Aging and Disability Services | Kansas | 18,000
Louisville-Jefferson County Metro Government | Kentucky | 18,000
Eqhealth Solutions, Inc | Louisiana | 18,000
Maine Department of Health and Human Services | Maine | 18,000
Aging, Maryland department of | Maryland | 18,000
Elder Services Of The Merrimack Valley Inc | Massachusetts | 18,000
MMAP Inc | Michigan | 18,000
Minnesota Department of Human Services | Minnesota | 18,000
Eqhealth Solutions, Inc | Mississippi | 18,000
District III Area Agency on Aging | Missouri | 18,000
Missoula Aging Services | Montana | 18,000
Insurance, Nebraska Department of | Nebraska | 18,000
State of Nevada Aging and Disability Services Division | Nevada | 18,000
New Hampshire Dept of Health and Human Services | New Hampshire | 18,000
Jewish Family & Vocational Service of Middlesex County, Inc | New Jersey | 18,000
Aging & Long-Term Services Department, New Mexico | New Mexico | 18,000
NY Statewide Senior Action Council, Inc | New York | 18,000
North Carolina Department of Insurance | North Carolina | 18,000
Minot State University | North Dakota | 18,000
Pro Seniors Inc | Ohio | 18,000
Oklahoma State Insurance Department | Oklahoma | 18,000
DHS Office of Financial Services | Oregon | 18,000
Center For Advocacy For The Rights And Interests Of The Elderly | Pennsylvania | 18,000
Hispanic-American Institute, Inc | Puerto Rico | 18,000
Rhode Island Dept of Elderly Affairs | Rhode Island | 18,000
South Carolina Department on Aging | South Carolina | 18,000
South Dakota Department of Human Services | South Dakota | 18,000
Upper Cumberland Development District | Tennessee | 18,000
Better Business Bureau Educational Foundation | Texas | 18,000
Legal Services of Virgin Islands Inc | U.S. Virgin Islands | 18,000
Human Services, Utah Department of | Utah | 18,000
Community of Vermont Elders | Vermont | 18,000
Virginia Association Of Area Agencies On Aging | Virginia | 18,000
Washington State Insurance Commissioner | Washington | 18,000
Senior Services West Virginia Bureau | West Virginia | 18,000
Greater Wisconsin Agency on Aging Resources, Inc | Wisconsin | 18,000
Wyoming Senior Citizens, Inc | Wyoming | 18,000

Period of Performance: The awards will be issued for the Fiscal Year 2021 project period of July 1, 2021 through May 31, 2022.

Total Award Amount: $972,000 total in FY 2021.

Award Type: Cooperative Agreement.

Statutory Authority: The statutory authority is contained in the HIPAA of 1996 (Pub. L. 104-191).

Basis for Award: Upon request for access to FY 2021 HCFAC Wedge funding, the Department granted approval for ACL's Office of Healthcare Information & Counseling to access $2 million in additional, one-time funding. This funding is intended to expand and enhance the virtual capacity of the existing SMP program and will be used in a number of ways to support virtual expansion and capabilities for current SMP grantees' efforts. As a result of the COVID-19 pandemic and related travel and congregation limitations and public health concerns, it has been identified that focus on expansion of virtual capacity is crucial at this time.

The current SMP grantees are funded to carry out the SMP project mission for the period of June 1, 2018 through May 31, 2023. Much work has already been completed and further tasks are currently being accomplished. It would be unnecessarily time consuming and disruptive to the SMP program, and the beneficiaries being served, for ACL to establish new grantees to focus on this intended virtual expansion of the program since the intent of this funding is to expand the current program and grantees' efforts. These administrative supplements will allow the SMP grantees to expand their current capacity to work virtually to empower Medicare beneficiaries, their families, and caregivers to prevent, detect, and report health care fraud, errors, and abuse through outreach, counseling, and education in the virtual space.

There is one SMP state grantee project in each of the 50 States, the District of Columbia, Puerto Rico, Guam, and the U.S. Virgin Islands. In 2019, the most up-to-date complete year of data, the 54 SMP projects had a total of 6,875 active team members who conducted a total of 28,146 group outreach and education events, reaching an estimated 1.6 million people. In addition, the projects had 320,590 individual interactions with, or on behalf of, a Medicare beneficiary. For 2019, the SMP projects reported $2.4 million in expected Medicare recoveries. This program has successfully operated since its inception 23 years ago.

The current grantees are closely monitored and are successfully meeting all programmatic goals under the current SMP state grants.

Dated: July 12, 2021.
Alison Barkoff,
Acting Administrator and Assistant Secretary for Aging, Administration for Community Living.

[FR Doc. 2021-15022 Filed 7-14-21; 8:45 am]

BILLING CODE 4154-01-P